DEPARTMENT OF ENERGY

Notice of Wetlands Involvement for the Proposed Conveyance of Parcel G, Oak Ridge Reservation, Oak Ridge, Tennessee

AGENCY: Oak Ridge Operations, U.S. Department of Energy.

ACTION: Notice of wetlands involvement.

SUMMARY: The U.S. Department of Energy (DOE), Oak Ridge Operations (ORO) is proposing to convey Parcel G to the City of Oak Ridge. Parcel G and the adjacent DOE property south of Parcel G support a palustrine emergent/scrub-shrub wetland system totaling approximately 1.4 ha (3.4 acres). More detail on these wetlands is provided in the supplementary information. Parcel G is one of three parcels being considered for conveyance from DOE to the City of Oak Ridge. The other two parcels are the American Museum of Science and Energy and Parcel 279.01, neither of which contain wetlands. The purpose of the proposed DOE action is to provide a plan for the long-term financial stability of the AMSE in order to preserve the museum as an asset to the city of Oak Ridge and the surrounding region. The proposed conveyance of the three parcels is also intended to help offset the City of Oak Ridge's long-term cost of operating the museum. The purpose of the proposed action is also to transfer excess DOE-ORO real property for economic development in order to help offset potential economic losses resulting from DOE downsizing, facility closeouts, and work force restructuring.

In accordance with the National Environmental Policy Act (NEPA), the Council on Environmental Quality regulations (40 CFR 1500-1508) and the DOE NEPA Implementing Regulations (10 CFR 1021), DOE has prepared a draft Environmental Assessment (EA) to evaluate the proposed action. The EA was issued for public review and comment on January 18, 2002. As a part of the EA (DOE/EA-1415), DOE is including a wetlands assessment to assess the existing wetlands as well as the potential impact of the proposed conveyance. (The wetlands assessment is available by contacting the DOE-ORO representative named below.)

DATES: Comments on the wetlands assessment are due to the address below no later than April 5, 2002.

ADDRESSES: Comments should be addressed to Mr. David R. Allen, U.S. Department of Energy, P.O. Box 2001, MS-SE-30-1, Oak Ridge, TN 37831. Comments may also be faxed to (865) 576-0746.

FOR FURTHER INFORMATION CONTACT: David R. Allen, U.S. Department of Energy, P.O. Box 2001, MS-SE-30-1, Oak Ridge, TN 37831, (865) 576-0411.

For Further Information on General DOE Wetland Environmental Review Requirements, Contact: Carol M. Borgstrom, Director, Office of NEPA Policy and Compliance, EH-42, U.S. Department of Energy, 1000 Independence Avenue SW., Washington, DC 200585, (202) 586-4600 or (800) 472-2756.

SUPPLEMENTARY INFORMATION: The U.S. Department of Energy (DOE) has completed a draft EA (DOE/EA-1415) for the Proposed Conveyance of the American Museum of Science and Energy, Parcel G, and Parcel 279.01 to the City of Oak Ridge, Tennessee. The purpose of the proposed DOE action is to provide a plan for the long-term financial stability of the AMSE in order to preserve the museum as an asset to the city of Oak Ridge and the surrounding region. The proposed conveyance of the three parcels is also intended to help offset the City of Oak Ridge's long-term cost of operating the museum. The purpose of the proposed action is also to transfer excess DOE-ORO real property for economic development in order to help offset potential economic losses resulting from DOE downsizing, facility closeouts, and work force restructuring.

Since specific uses of Parcel G would not be known prior to the transfer, DOE has developed reasonably foreseeable scenarios and uses to bound the impact analysis. Scenarios identify potential tenants, utilities and infrastructure, areas to be excluded from development, and a range of emissions, effluents, and wastes that could result from commercial and industrial activities. It is anticipated that the City of Oak Ridge would develop portions of Parcel G for small-scale offices, light industrial use, or retail businesses.

Parcel G contains about 8.1 ha (20.0 acres) and is located southeast of the intersection of Bethel Valley and Scarboro roads. A portion of Parcel G is within the area of the Oak Ridge Institute of Science and Energy Scarboro Operations Site (formerly the South Campus Facility). The Scarboro Operations Site supported research on the biological effects of radionuclides on animals. The portion of Parcel G that is within the boundary of the Scarboro Operations Site was an area where only unexposed animals were housed or grazed. In addition to pasture, the area contained various barns and a three-tiered swine waste treatment pond system. Only one barn structure remains within Parcel G. Nearby land uses include the Y-12 Plant buffer area, Bethel Valley Industrial Park, Commerce Park, and the University of Tennessee Forest Experiment Station and Arboretum. Parcel G is currently zoned by the city of Oak Ridge as F.A.I.R. (Forestry, Agriculture, Industry and Research District).

Parcel G and the adjacent DOE property to the south support a palustrine emergent/scrub-shrub wetland system along Scarboro Creek totaling approximately 1.4 ha (3.4 acres). All wetlands identified at Parcel G exhibited positive field indicators of the wetland criteria: hydrophytic plants, hydric soils, and wetland hydrology. The majority of these wetlands are associated with the floodplain of Scarboro Creek, the Scarboro Creek embayment (part of Melton Hill Reservoir), and two beaver ponds in Scarboro Creek immediately south of Parcel G.

In addition to the Scarboro Creek wetlands, there are three ponds that were created to treat swine waste when Parcel G was actively associated with operation of the Scarboro Operations Site. Agricultural uses of the ponds ceased in the mid-1980's and all three ponds have remained at the site. Two of the ponds remain permanently inundated. The third pond holds water for relatively short periods and supports a wetland plant community. The actual area of wetlands to be transferred with Parcel G is about 0.4 ha (1.0 ac). DOE would retain control over the remaining 1 ha (2.4 acres) of wetlands along Scarboro Creek downstream from Parcel G.

The proposed conveyance of Parcel G would not inherently cause adverse impacts to the survival, quality, natural, and beneficial values of wetlands along Scarboro Creek, because the proposed transfer is an administrative action. Rather, the potential for and degree of adverse impacts would depend upon how the City of Oak Ridge proposes to develop the property. Adverse impacts would include any activity that eliminated or reduced the ability of wetlands to perform their normal biological, chemical, hydrological, and physical functions. Some or all of the wetlands associated with Scarboro Creek could potentially experience direct impacts by development in the wetlands themselves or indirect impacts from other activities associated with development of adjacent upland areas at Parcel G. Wetlands downstream from Parcel G could also be affected by any construction activities on Parcel G.

A number of administrative controls, including deed restrictions or conservation easements are available for DOE to use in order to prevent adverse impacts to wetlands at Parcel G. Proposals for development of Parcel G that would affect wetlands and other special aquatic resources would also be subject to regulation by the U.S. Army Corps of Engineers (USACE), Tennessee Department of Environment and Conservation (TDEC), and possibly the Tennessee Valley Authority (TVA). Proposed projects would be required to follow normal sequencing during regulatory review to avoid and minimize adverse impacts to wetlands at Parcel G. Compensatory mitigation should be used as a last resort and would be subject to negotiation between the USACE, TDEC, and possibly DOE and TVA.

In accordance with DOE regulations for compliance with wetlands environmental review requirements (10 CFR part 1022), a wetland assessment will be included within the Environmental Assessment for the Proposed Conveyance of the American Museum of Science and Energy, Parcel G, and Parcel 279.01 to the City of Oak Ridge, Tennessee (DOE/EA-1415).

Issued in Oak Ridge, Tennessee, on March 12, 2002.
James L. Elmore,
Alternate NEPA Compliance Officer.

[FR Doc. 02-6818 Filed 3-20-02; 8:45 am]

BILLING CODE 6450-01-P